DEPARTMENT OF HOMELAND SECURITY

U.S. Customs And Border Protection

Accreditation of Dixie Services Inc., as a Commercial Laboratory

AGENCY: U.S. Customs and Border Protection, Department of Homeland Security.

ACTION: Notice of accreditation of Dixie Services, Inc., as a commercial laboratory.

SUMMARY: Notice is hereby given, pursuant to CBP regulations, that Dixie Services, Inc., has been accredited to test petroleum and certain petroleum products for customs purposes for the next three years as of September 9, 2015.

DATES: The accreditation of Dixie Services, Inc., as commercial laboratory became effective on September 9, 2015. The next triennial inspection date will be scheduled for September 2018.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 that Dixie Services, Inc., 1706 First St., Galena Park, TX 77547, has been accredited to test petroleum and certain petroleum products for customs purposes, in accordance with the provisions of 19 CFR 151.12.

Dixie Services, Inc., is accredited for the following laboratory analysis procedures and methods for petroleum and certain petroleum products set forth by the U.S. Customs and Border Protection Laboratory Methods (CBPL) and American Society for Testing and Materials (ASTM):

CBPL No. | ASTM | Title
27-04 | D95 | Standard Test Method for Water in Petroleum Products and Bituminous Materials by Distillation.
27-05 | D4928 | Standard Test Method for Water in Crude Oils by Coulometric Karl Fischer Titration.
27-06 | D473 | Standard Test Method for Sediment in Crude Oils and Fuel Oils by the Extraction Method.
27-07 | D4807 | Standard Test Method for Sediment in Crude Oil by Membrane Filtration.
27-08 | D86 | Standard Test Method for Distillation of Petroleum Products.
27-11 | D445 | Standard Test Method for Kinematic Viscosity of Transparent and Opaque Liquids.
27-13 | D4294 | Standard Test Method for Sulfur in Petroleum and Petroleum Products by Energy-Dispersive X-ray Fluorescence Spectrometry.
27-14 | D2622 | Standard Test Method for Sulfur in Petroleum Products.
27-39 | D721 | Standard Test Method for Oil Content of Petroleum Waxes.
27-48 | D4052 | Standard Test Method for Density and Relative Density of Liquids by Digital Density Meter.
27-50 | D93 | Standard Test Methods for Flash-Point by Pensky-Martens Closed Cup Tester.
27-53 | D2709 | Standard Test Method for Water and Sediment in Middle Distillate Fuels by Centrifuge.
27-58 | D5191 | Standard Test Method For Vapor Pressure of Petroleum Products.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to CBPGaugersLabs@cbp.dhs.gov. Please reference the Web site listed below for a complete listing of CBP approved gaugers and accredited laboratories.

http://www.cbp.gov/about/labs-scientific/commercial-gaugers-and-laboratories

Dated: April 11, 2016.
Ira S. Reese,
Executive Director, Laboratories and Scientific Services Directorate.

[FR Doc. 2016-08930 Filed 4-15-16; 8:45 am]

BILLING CODE 9111-14-P